DEPARTMENT OF EDUCATION

Notice of Submission for OMB Review; Office of Postsecondary Education; Assessing Program Performance, National Resource Center, Business and International Education, and Undergraduate International Studies and Foreign Language Programs Phone Interviews

SUMMARY: The U.S. Department of Education is collecting data to conduct an assessment of the National Resource Center (NRC), Business and International Education (BIE), and Undergraduate and International Studies and Foreign Language (UISFL) programs. Institutions of Higher Education will be asked to provide quantitative data on their internationalization and capacity building efforts on each campus.

DATES: Interested persons are invited to submit comments on or before October 5, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04868. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Assessing Program Performance, National Resource Center, Business and International Education, and Undergraduate International Studies and Foreign Language Programs Phone Interviews.

OMB Control Number: Pending.

Type of Review: New.

Total Estimated Number of Annual Responses: 45.

Total Estimated Number of Annual Burden Hours: 34.

Abstract: The data collected through phone interviews will be used to document the implementation of individual projects as well as of the programs collectively and to inform future studies looking at long-term impact. The results will be used to make a determination about what has been accomplished by the NRC, BIE, and UISFL programs and to inform program improvement in the future.

Dated: August 30, 2012.
Darrin A. King,
Director, Information Collection Clearance Division, Privacy, Information and Records Management Services, Office of Management.

[FR Doc. 2012-21856 Filed 9-4-12; 8:45 am]

BILLING CODE 4000-01-P